DEPARTMENT OF LABOR

Employment and Training Administration

[TA-W-64,442]

Technology Associates, Inc., D/B/A Ranal Measurement Point Division, Auburn, MI; Notice of Negative Determination Regarding Application for Reconsideration

By application dated January 22, 2009, workers requested administrative reconsideration of the Department's negative determination regarding eligibility for workers and former workers of Technologies Associates Inc., d/b/a Ranal, Measurement Point division, Auburn, Michigan (subject firm) to apply for Trade Adjustment Assistance (TAA) and Alternative Trade Adjustment Assistance (ATAA).

The negative determination was issued on December 24, 2008. The Department's Notice of negative determination was published in the Federal Register on January 14, 2009 (74 FR 2139). The workers perform engineering service related to measurement points on component parts for the automotive industry. The denial was based on the finding that the subject firm does not produce an article within the meaning of Section 222(a)(2) of the Act.

The workers' request for reconsideration stated that “the petitioners were support personnel to General Motors * * * General Motors has trained workers in India to perform functions that we use[d] to perform and shipped work there. * * * If work was not being disbursed to India that work would be available to domestic workers.”

Pursuant to 29 CFR 90.18(c), administrative reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The Department has consistently determined that articles (whether tangible or intangible) produced incidental to the provision of a service are not considered articles for purposes of the Trade Act of 1974. Further, even if the “Measurement Point Drawings and Electronic Measurement files” were articles, for purposes of the Trade Act, the shift of production was not by the subject firm but by the firm's customer (General Motors).

In order to apply for TAA, the subject worker group must meet the group eligibility requirements for directly-impacted (primary) workers under Section 222(a) of the Trade Act of 1974, as amended, based on a shift of production, the Department must find that there has been a shift in production by such workers' firm or subdivision to a foreign country of articles like or directly competitive with articles which are produced by such firm or subdivision.

After careful review of the request for reconsideration, the support documentation, and previously submitted materials, the Department determines that there is no new information that supports a finding that Section 222 of the Trade Act of 1974 was satisfied and that no mistake or misinterpretation of the facts or of the law with regards to the number or proportion of workers separated from the subject firm during the relevant period.

Conclusion

After review of the application and investigative findings, I conclude that there has been no error or misinterpretation of the law or of the facts which would justify reconsideration of the Department of Labor's prior decision. Accordingly, the application is denied.

Signed at Washington, DC, this 3rd day of March 2009.
Elliott S. Kushner,
Certifying Officer, Division of Trade Adjustment Assistance.

[FR Doc. E9-5180 Filed 3-10-09; 8:45 am]

BILLING CODE 4510-FN-P